DEPARTMENT OF ENERGY

Federal Energy Regulatory Commission

[Docket No. QF07-60-000]

Food Lion 2616—Benson, NC; Notice of Filing of Notice of Self-Certification of Qualifying Status of a Cogeneration Facility

May 18, 2007.

Take notice that on December 27, 2006, Food Lion LLC, 2110 Executive Drive, Salisbury, NC 28145 (Headquarters), filed with the Federal Energy Regulatory Commission a notice of self-certification of a facility as a qualifying cogeneration facility pursuant to 18 CFR 292.207(a) of the Commission's regulations.

This qualifying cogeneration facility consists of a 365 kW packaged diesel engine generator set operating on #2 fuel oil. The package is set on a concrete pad. The unit is self-contained, including all necessary switchgear and controls. The electricity is generated at 208 V, 3 phase, 60 Hz. The facility is located at 700 E. Parrish Drive, Benson, NC 27504.

This qualifying facility interconnects with the Town of Benson's electric distribution system. The facility will provide standby power and occasionally supplementary power to Food Lion.

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-9983 Filed 5-23-07; 8:45 am]

BILLING CODE 6717-01-P